DEPARTMENT OF TRANSPORTATION

Federal Aviation Administration

Notice of Availability, Notice of Public Comment Period, Notice of Public Meeting, and Request for Comment on the Draft Programmatic Environmental Assessment for Drone Package Delivery in North Carolina

AGENCY: Federal Aviation Administration, DOT.

ACTION: Notice of availability; notice of public meeting; request for comments.

SUMMARY: The Federal Aviation Administration (FAA) announces the availability of the Draft Programmatic Environmental Assessment (PEA) for Drone Package Delivery in North Carolina for public review and comment.

DATES: Send comments on or before May 30, 2024. The FAA will hold a virtual public meeting on Tuesday, May 21, 2024, from 6:00-8:00 p.m. Eastern Time.

ADDRESSES: Email comments to 9-FAA-Drone-Environmental@faa.gov or by mail to Federal Aviation Administration, Suite 802W, C/O AVS Environmental, 800 Independence Ave. SW, Washington, DC 20591. Members of the public may view the virtual meeting via Zoom at https://us06web.zoom.us/j/84319168260.

Before including your address, phone number, email address, or other personal identifying information in your comment, be advised that your entire comment—including your personal identifying information—may be made publicly available at any time. While you can ask us in your comment to withhold from public review your personal identifying information, we cannot guarantee that we will be able to do so.

FOR FURTHER INFORMATION CONTACT: For questions concerning this action, contact Nicholas Baker, Environmental Protection Specialist, Unmanned Aircraft Systems Integration Office, Safety & Integration Division, Strategic Programs Branch, AUS-430; telephone 1-202-267-4714; email 9-FAA-Drone-Environmental@faa.gov.

SUPPLEMENTARY INFORMATION: The Draft PEA evaluates the potential environmental impacts of Unmanned Aircraft Systems (UAS) package delivery operations in the state of North Carolina. The proposed action analyzed in the PEA is UAS operators conducting commercial drone package deliveries under 14 Code of Federal Regulations (CFR) part 135 in North Carolina. The North Carolina Department of Transportation is the project proponent.

The Draft PEA is submitted for review pursuant to the National Environmental Policy Act (NEPA) (42 United States Code [U.S.C.] 4321 et seq.), the Council on Environmental Quality NEPA Implementing Regulations (40 CFR parts 1500-1508), FAA Order 1050.1F, Environmental Impacts: Policies and Procedures, section 4(f) of the Department of Transportation Act (49 U.S.C. 303), and section 106 of the National Historic Preservation Act (16 U.S.C. 470). The draft PEA is available to view and download electronically at https://www.faa.gov/uas/advanced_operations/nepa_and_drones/. The Draft PEA is available from any internet access, including from computers freely available at public libraries.

Based on the analysis in the Draft PEA, including any mitigation measures that may be used to prevent significant noise impacts, the FAA has preliminarily determined there will not be significant impacts to the human environment. As a result, an Environmental Impact Statement has not been initiated. The FAA intends for this PEA to create efficiencies by establishing a framework that can be used for “tiering,” when appropriate, to project-specific actions that require additional analysis. As decisions on specific applications are made, to the extent additional NEPA analysis is required, environmental review will be conducted to supplement the analysis set forth in this PEA.

Public Meeting

The FAA will provide an overview of the project and potential environmental impacts at a virtual public meeting on May 21, 2024. There will be a question-and-answer session where the public will have the opportunity to ask questions about the project after the presentation. Following the question-and-answer session, the public will have the opportunity to provide oral comments on the Draft PEA. The opportunity to provide oral comment will be given in the order that the requests are received. Comments should be limited to three minutes and must be reserved to the topic of the Draft PEA. Commenters who may need longer than three minutes are strongly encouraged to submit a written comment. The FAA will accept written comments until May 30, 2024. The FAA will not respond to oral comments during the virtual public meeting, but will review and respond to oral comments in the same fashion as written comments in preparing the Final PEA.

The U.S. Department of Transportation is committed to providing equal access to this meeting for all participants. If you need alternative formats or services because of a disability, such as sign language, interpretation, or other ancillary aids, please contact the person listed in the FOR FURTHER INFORMATION CONTACT section.

Comments Invited

The FAA invites interested stakeholders to submit comments on the Draft PEA, as specified in the ADDRESSES section of this Notice. The most helpful comments reference a specific recommendation, explain the reason for any recommended change, and include supporting information. The FAA will consider all comments received or post-marked on or before the closing date. The FAA will also consider late filed comments if it is possible to do so without incurring expense or delay.

Issued in Washington, DC, on May 7, 2024.
Derek W. Hufty,
Manager, General Aviation and Commercial Branch, Emerging Technologies Division, Office of Safety Standards, Flight Standards Service.

[FR Doc. 2024-10232 Filed 5-9-24; 8:45 am]

BILLING CODE 4910-13-P